DEPARTMENT OF LABOR

Employment and Training Administration

TA-W-72,319

General Motors Company, Formerly Known as General Motors Corporation, Willow Run Transmission Plant, Including On-Site Leased Workers From Aerotek, Securitas, Knight Management, PLMSI, Acro, and Quaker Chemical, Ypsilanti, MI; Amended Certification Regarding Eligibility To Apply for Worker Adjustment Assistance

In accordance with Section 223 of the Trade Act of 1974, as amended (“Act”), 19 U.S.C. 2273, the Department of Labor issued a Certification of Eligibility to Apply for Worker Adjustment Assistance on July 7, 2010, applicable to workers of General Motors Company, formerly known as General Motors Corporation, Willow Run Transmission Plant, Ypsilanti, Michigan. The notice was published in the Federal Register on July 26, 2010. (75 FR 43558). The notice was amended on July 30, 2010 and November 18, 2010 to include on-site leased workers from Aerotek, Securitas, Knight Management, PLMSI and Acro. The notices were published in the Federal Register on August 13, 2010 (75 FR 49527) and December 7, 2010 (75 FR 76038), respectively.

At the request of the State, the Department reviewed the certification for workers of the subject firm. The workers were engaged in the production of automotive transmissions and transmission components.

The company reports that workers leased from Quaker Chemical were employed on-site at the Ypsilanti, Michigan location of General Motors Company, formerly known as General Motors Corporation, Willow Run Transmission Plant. The Department has determined that on-site workers from Quaker Chemical were sufficiently under the control of General Motors Company, formerly known as General Motors Corporation, Willow Run Transmission Plant to be considered leased workers.

Based on these findings, the Department is amending this certification to include workers leased from Quaker Chemical working on-site at the Ypsilanti, Michigan location of General Motors Company, formerly known as General Motors Corporation, Willow Run Transmission Plant.

The amended notice applicable to TA-W-72,319 is hereby issued as follows:

All workers General Motors Company, formerly known as General Motors Corporation, Willow Run Transmission Plant, including on-site leased workers from Aerotek, Securitas, Knight Management, PLMSI, Acro and Quaker Chemical, Ypsilanti, Michigan, who became totally or partially separated from employment on or after September 14, 2008, through July 7, 2012, and all workers in the group threatened with total or partial separation from employment on the date of certification through two years from the date of certification, are eligible to apply for adjustment assistance under Chapter 2 of Title II of the Trade Act of 1974, as amended.

Signed at Washington, DC, this 17th day of December 2010.
Michael W. Jaffe,
Certifying Officer, Office of Trade Adjustment Assistance.

[FR Doc. 2010-33050 Filed 12-30-10; 8:45 am]

BILLING CODE 4510-FN-P